DEPARTMENT OF COMMERCE

National Oceanic and Atmospheric Administration

RIN 0648-XE747

Caribbean Fishery Management Council; Public Meeting

AGENCY: National Marine Fisheries Service (NMFS), National Oceanic and Atmospheric Administration (NOAA), Commerce.

ACTION: Notice of a public meeting.

SUMMARY: The Caribbean Fishery Management Council's Scientific and Statistical Committee (SSC) will hold a three-day meeting.

DATES: The meetings will be held on August 17-19, 2016.

ADDRESSES: The meetings will be held at the Council Office: 270 Muñoz Rivera Avenue, Suite 401, San Juan, Puerto Rico.

FOR FURTHER INFORMATION CONTACT: Caribbean Fishery Management Council, 270 Muñoz Rivera Avenue, Suite 401, San Juan, Puerto Rico 00918-1903, telephone (787) 766-5926.

SUPPLEMENTARY INFORMATION: The Caribbean Fishery Management Council's Scientific and Statistical Committee (SSC) will hold a three-day meeting to discuss the items contained in the following agenda:

—Call to Order

—Adoption of Agenda

—Island Based Fishery Management Plans (IBFMPs)

—Review Goals and Objectives of the IBFMPs

—Finalize Action 1: Species to include for federal management in each IBFMP

—Recommendations to the Caribbean Fishery Management Council (CFMC)

—Review/Finalize Action 2: Review Consolidated List of Stocks and Stock Complexes/Species Complexes—NMFS Southeast Regional Office (SERO) Update

—Recommendations to CFMC

—Review Action 3: Reference Points

—Update SEDAR 46 US Caribbean Data Limited Species—Southeast Fisheries Science Center (SEFSC)

—Acceptable Biological Catch (ABC) Control Rule Work Group Report

—Brief review of ABC Control Rule

—Examples of ABC Control Rules: South Atlantic, Gulf of Mexico, Western Pacific Councils

—Discussion on tiers ABC Control Rule

—Evaluation of components of uncertainty

—Potential guidance coming out of data poor models (Overfishing Limit (OFL) and ABC advice)

—Review U.S. Caribbean landings data (commercial and recreational) for entire historical series

—Recommendations to the SSC from the ABC Working Group

—Recommendations to the CFMC on ABC Control Rule

—Consider Action 4: Framework Procedures for the IBFMP

—Finalize 5-year CFMC—Other Business

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: July 19, 2016.
Tracey L. Thompson,
Acting Deputy Director, Office of Sustainable Fisheries, National Marine Fisheries Service.

[FR Doc. 2016-17450 Filed 7-22-16; 8:45 am]

BILLING CODE 3510-22-P